FEDERAL COMMUNICATIONS COMMISSION

47 CFR Part 54

[WC Docket Nos. 18-213 and 20-89; Report No. 3147; FRS 16759]

Petitions for Reconsideration of Action in Proceedings

AGENCY: Federal Communications Commission.

ACTION: Petitions for Reconsideration.

SUMMARY: Petitions for Reconsideration (Petitions) have been filed in the Commission's proceeding by Ashley B. Thompson, on behalf of American Hospital Association and Roxanne Yaghoubi, on behalf of American Dental Association.

DATES: Oppositions to the Petitions must be filed on or before June 8, 2020. Replies to an opposition must be filed on or before June 16, 2020.

ADDRESSES: Federal Communications Commission, 445 12th Street SW, Washington, DC 20554.

FOR FURTHER INFORMATION CONTACT: Joseph Schlingbaum, Wireline Competition Bureau, Telecommunications Access Policy Division, (202) 418-7400.

SUPPLEMENTARY INFORMATION: This is a summary of the Commission's document, Report No. 3147, released May 8, 2020. Petitions may be accessed online via the Commission's Electronic Comment Filing System at: http://apps.fcc.gov/ecfs/. The Commission will not send a Congressional Review Act (CRA) submission to Congress or the Government Accountability Office pursuant to the CRA, 5 U.S.C. because no rules are being adopted by the Commission.

Subject: Promoting Telehealth for Low-Income Consumers; COVID-19 Telehealth Program, FCC 20-44, published at 85 FR 19892, April 9, 2020 in WC Docket Nos. 18-213 and 20-89. This document is being published pursuant to 47 CFR 1.429(e). See also 47 CFR 1.4(b)(1) and 1.429(f), (g).

Number of Petitions Filed: 2.

Federal Communications Commission.
Marlene Dortch,
Secretary, Office of the Secretary.

[FR Doc. 2020-10534 Filed 5-21-20; 8:45 am]

BILLING CODE 6712-01-P